FEDERAL COMMUNICATIONS COMMISSION

47 CFR Parts 2, 15, 18, 73, 74, 78, 80, 87, 90, and 101

[ET Docket No. 15-170; FCC 17-93]

Authorization of Radiofrequency Equipment

AGENCY: Federal Communications Commission.

ACTION: Final rule.

SUMMARY: The Federal Communications Commission (Commission) amends its equipment authorization regulations, increasing the Commission's agility to respond to changes in technology and industry standards. This rule consolidates, simplifies, and streamlines certain procedures, and removes the requirement to file the import declaration FCC Form 740 under certain circumstances.

DATES: Effective November 2, 2017.

The incorporation by reference listed in the rule was approved by the Director of the Federal Register as of November 2, 2017.

ADDRESSES: FCC Reference Information Center, Portals II, 445 12th Street SW., Room CY-A257, Washington, DC 20554 for full text of “First Report and Order, FCC 17-93” (also at https://apps.fcc.gov/edocs_public/attachmatch/FCC-17-93A1.docx) and inspection of material incorporated by reference. See SUPPLEMENTARY INFORMATION for details.

FOR FURTHER INFORMATION CONTACT: Brian Butler, Office of Engineering and Technology, (202) 418-2702, email: Brian.Butler@fcc.gov, TTY (202) 418-2989. For additional information concerning the Paperwork Reduction Act information collection requirements contained in this document, contact Nicole Ongele, OMD/PERM, (202) 418-2991, or send an email to Nicole.Ongele@fcc.gov.

SUPPLEMENTARY INFORMATION: This is a summary of the Commission's First Report and Order (R&O), ET Docket No. 15-170, FCC 17-93, adopted July 13, 2017, and released July 14, 2017. The full text of this document is available for inspection and copying during normal business hours in the FCC Reference Center (Room CY-A257), 445 12th Street SW., Washington, DC 20554, or by downloading the text from the Commission's Web site at [http://transition.fcc.gov/Daily_Releases/Daily_Business/2017/db1003/FCC-17-93A1.pdf]. Alternative formats are available for people with disabilities (Braille, large print, electronic files, audio format) by sending an email to fcc504@fcc.gov or calling the Commission's Consumer and Governmental Affairs Bureau at (202) 418-0530 (voice), (202) 418-0432 (TTY).

Synopsis

I. First Report and Order

1. On July 17, 2015, the Commission adopted a Notice of Proposed Rulemaking (NPRM) in this proceeding. 80 FR 46900, August 6, 2015. In the First Report and Order, the Commission amended parts 0, 1, 2, 15, and 18 of its rules to update and improve its equipment authorization program. Section 302 of the Communications Act of 1934, as amended (the Act), authorizes the Commission to make reasonable regulations governing the interference potential of devices that emit RF energy and such devices must demonstrate compliance with the Commission's technical and equipment authorization requirements before they can be imported to or marketed in the United States. The Office of Engineering and Technology (OET) administers the day-to-day operation of the equipment authorization program, providing supplemental guidance that is available via public notices and in its online Knowledge Database (KDB). The Commission's actions are described in greater detail below.

2. Supplier's Declaration of Conformity. The Commission adopted its proposal to replace two of the existing equipment authorization procedures (Declaration of Conformity (DoC) and verification) with a single process—“Supplier's Declaration of Conformity” (SDoC). Verification and DoC are both self-approval processes under which the party responsible for the compliance of the RF device has been required to take the necessary steps (testing or analysis) to ensure that the equipment complies with the appropriate technical standards. DoC incorporates additional requirements: Compliance testing must be performed by an accredited testing laboratory and the manufacturer must include of a written compliance statement (i.e., a “Declaration of Conformity”) in the literature furnished to the user and affix a specific FCC logo on the equipment identification label to signify that the equipment meets the Commission's regulations.

3. The Commission determined that, with the advancement in testing technologies, equipment and standards, there is no longer a need to require DoC devices to be tested for compliance by accredited test laboratories. It further noted that without the requirement for laboratory accreditation, the DoC and verification procedures are quite similar. The Commission concluded that adoption of SDoC as single self-approval process would simplify the equipment authorization requirements and reduce confusion as to which process may apply to any given device, while continuing to adequately ensure compliance with its rules. Under SDoC, the responsible party for equipment will test equipment for compliance to specified standards or requirements and supply a statement with the product that certifies that the equipment complies with the rules and identifies the responsible party. This information can be included with other information provided to the user instead of being displayed on the device itself.

4. The Commission found the few arguments against merging DoC and verification (primarily that the Commission should not relax its testing requirements) did not diminish its overall confidence in the adopted SDoC process or its belief that streamlining the procedures by eliminating selected elements would not appreciably raise the risk of harmful interference from devices so approved.

5. Testing and laboratory accreditation. The Commission modified its proposal to eliminate the rule common to verification and DoC that permitted responsible parties to “take other necessary steps” instead of testing to ensure compliance. To resolve commenter's concerns, the Commission decided to continue to specify in its rules that other “measures” will be acceptable to validate the compliance of a device. Such specific acceptable testing procedures would draw upon the types of standardized procedures and voluntary standards that have been incorporated by reference and endorsed in its guidance documents.

6. Compliance information and logo. The Commission adopted its proposal to require all SDoC devices to be marketed with a compliance statement. It found that such a statement will offer assurance that equipment has been determined to be compliant for use in the United States according to the Commission's technical regulations, will allow the Commission to more readily associate the equipment with the party responsible for compliance, and will meet the public's need for information about manufacturers and origins of products.

7. The Commission had initially proposed not to require a specific logo be placed on the device (an element of the existing DoC requirements). It declined the suggestion of several commenters to allow the FCC logo to be used in lieu of the compliance statement, finding that the compliance statement conveys specific information about a product that a consumer cannot independently ascertain from the FCC logo, and that continuing to require the FCC logo would create an unnecessary burden on device manufacturers. Accordingly, it adopted a rule that allows the FCC logo to be physically placed on a device at the discretion of the responsible party consistent with the practices currently specified in §§ 15.19 and 18.209, and only if its device complies with the applicable equipment authorization rules. While the use of such a logo may provide conveniences for the responsible party, its presence will not obviate the need to provide required compliance information or maintain pertinent records related to device testing.

8. Other requirements. The Commission did not adopt its proposal to require a statement with additional information when equipment has been modified, but is nevertheless still subject to the self-approval process. Noting that, when considered as a whole, the rules require the responsible party to provide up-to-date compliance information with each device, the Commission found this information to be sufficient. The existing technical standards pertaining to Class A (commercial/industrial) and Class B (residential/home) digital devices remains otherwise unchanged.

9. Scope. The Commission applied the new SDoC process to all equipment currently subject to the DoC and verification procedures. It took no action to re-visit which equipment authorization process is most appropriate for certain specific categories of devices, but recognized that, in the event specific types of RF devices authorized via SDoC are later found more likely to cause harmful interference due to difficulties in the design, manufacturing, or testing processes, it has the option to remove such devices from the self-approval procedure and subject them to the certification process. Certification is a more stringent approval process that requires, among other things, the use of accredited laboratories.

10. Under parts 15 and 18 of its rules, a responsible party can choose to use the certification process in lieu of DoC for the approval of certain unintentional radiators. The Commission explicitly provided in the SDoC rules that parties may opt to undergo the more rigorous certification process for the equipment authorization for any device. This regulatory option places no burdens on a responsible party, as it is only an option, and parties can later decide to revert to the SDoC procedures, if, for example they decide that the costs associated with certification outweighs the benefits.

11. Transition Period. The Commission permitted manufacturers to continue to use the existing DoC or verification procedures for up to one year from the effective date of the rules if they so choose.

12. E-Labeling. In furtherance of the Enhance Labeling, Accessing, and Branding of Electronic Licenses Act (E-LABEL Act), the Commission adopted new rules to will codify its existing electronic labeling procedures. The E-LABEL Act, which applies to all radiofrequency devices authorized by the Commission that have the “capability to digitally display labeling and regulatory information,” directed it “to promulgate regulations or take other appropriate action, as necessary, to allow manufacturers of radiofrequency devices with display the option to use electronic labeling for the equipment in place of affixing physical labels to the equipment.” The adopted rules generally allow a radiofrequency device to electronically display any labels required by our rules, including the FCC ID required for certified devices, as well as any warning statements or other information that our rules require to be placed on a physical label on the device.

13. Capability of a device to digitally display information. The E-LABEL Act applies to “radiofrequency device[s] with display,” which are defined as equipment or devices that require Commission authorization prior to marketing and sale, and that “ha[ve] the capability to digitally display” required information. The Commission concluded that if the labeling and regulatory information cannot be displayed to the intended recipient “in a manner that effects its purpose,” the device is incapable of digitally displaying the required information as required by the E-LABEL Act.

14. “Three-step” access. The Commission determined to require that labeling and regulatory information, when digitally displayed, should be accessible in no more than three steps. This determination is consonant with the suggestion of an industry group, is similar to other international regulations, and mirrors staff guidance currently provided in the KDB publications. It provided one example of a characteristic sequence: A user accessing the device settings menu (step one); accessing a submenu of legal information (step two); and accessing a further submenu of FCC compliance information (step three). The Commission directed OET to provide guidance in response to any specific questions on how to determine a particular device's compliance with this requirement via the KDB inquiry process.

15. Access Instructions. The Commission decided to require that device users be provided with prominent and specific instructions on how to access the required labeling and regulatory information that be must be included with the device (packaging material, operating instruction booklet, etc.) or on a product-related Web site so long as the packaging material includes a statement that information on accessing this information is available on the Internet, along with effective instructions on how to access the direct Web site containing the required information. These instructions must be available in either the packaging material or another easily accessible format at the time of purchase, and be available on the product-related Web site, if one exists. The responsible party must ensure that the Web site access instructions provided with the packaging material does not lead to a dead link or otherwise fail to provide information necessary for access to the required labeling and regulatory information online. If the party responsible for the marketing of the device changes over time, maintaining this information shall become the responsibility of the party that most recently packaged the specific version of the device and made it available for sale.

16. Codes, permissions, and accessories. Accessing the labeling and regulatory information must not require any special codes or permissions. Other forms of electronic labeling such as Radio Frequency Identification (RFID) tags or Quick Response (QR) codes may not substitute for the on-screen information display, and displays that require the use of special accessories, supplemental software, or similar plug-ins are not permitted. By contrast, screen locks, passcodes, or similar security protections that are designed to control overall device access and use and implemented by the owner(s)/user(s) of a device, are integral to securing personal access to a device and its information, do not inappropriately restrict access to labeling-related information, and are therefore not precluded by the prohibition on special codes.

17. Devices that require connection to a second device to function. Electronic labeling is permitted for devices that do not include an integrated screen but that can only operate in conjunction with a device that has a screen. Such devices are subject to the same requirements as any other RF device that is eligible to use the electronic labeling rules. The Commission further stated that merely being capable of such an association would not qualify a display-free device to use electronic labeling if the device retains any utility in a stand-alone configuration, and, thus, this provision only applies to devices that have no operation or functionality as a radiofrequency device unless connected to an electronic display.

18. Electronic labeling legibility and permanence. The Commission concluded that, regardless of the method of display, electronic or physical, if the required information is not legible, or if a display that is too dim or displayed for too short a duration to be easily read, then the basic purpose of having a labeling requirement is undermined. Accordingly, electronic labeling information must be electronically displayed in a manner that is “clearly legible without the aid of magnification.” Similarly, because electronic labels cannot be easily removed or replaced if they are to be effective, manufacturers that choose to display required labeling information electronically must ensure that the information may not be removed or modified by anyone other than the responsible party.

19. When electronic labels may be used. The Commission found that in defining “electronic labeling,” the E-LABEL Act statute does not limit itself to just the basic equipment labels that the Commission requires (e.g., FCC IDs), and so it should be read broadly to cover any labeling that the Commission may require without regard to the subject matter. The rule the Commission adopted permits, with limited exceptions, e-labeling for “any . . . information that the Commission's rules would otherwise require to be shown on a physical label attached to the device.” Only in those limited cases where an electronic label would be incapable of conveying the information in a timely manner, such that it would undermine the purpose of providing the information in the first place, does the Commission still require the use of physical labels. It provided specific examples, including mandatory labeling requirements and warnings for 406 MHz personal locator beacons, notice of prior coordination requirement for wireless medical telemetry devices, non-interference warnings and serial number identification for MedRadio equipment, and labeling requirements for Emergency Position Indicating Radiobeacons and Emergency Locator Transmitters. Where a rule has a variety of information disclosure requirements, only those elements that relate to labeling the device itself will be eligible for electronic labeling.

20. Temporary External Labels. In the NPRM, the Commission noted that labels are intended to provide consumers with important information about RF devices and inform government officials that the devices meet the technical requirements of its rules and it expressed concerns that these abilities are limited when access to the electronic display is precluded. Thus, the Commission initially proposed that devices using an electronic label instead of a permanent physical label would be required to include the pertinent regulatory information on the product packaging or on a physical label placed on the device at the time of importation, marketing, and sales. In response, some commenters asserted that requiring the removable labels would reduce many of the benefits of e-labeling and that such a requirement was not part of Congress' direction in the E-LABEL Act.

21. The Commission stated that while the E-LABEL Act did not specifically prescribe the use of temporary external labels, it did not directly proscribe them either. It noted that the Act's legislative history stated that the purpose of the bill was “to promote the non-exclusive use of electronic labeling for certain [RF] devices.” It continued that, while the statutory language generically refers to physical labels, the legislative history makes it clear that Congress did not intend to frustrate or disrupt the underlying purpose of the equipment authorization program. Toward this end the Commission asserted that a temporary physical label would support ongoing oversight and provide everyone in the supply chain, including wholesalers, distributors, and retailers, as well as initial purchasers, an obvious assertion that a device comports with our technical requirements and is legal to import/sell/purchase in the U.S. While acknowledging the burdens associated with its temporary labeling proposal, it affirmed its belief that temporary labels or packaging markings would be significantly less burdensome than permanent labels. Accordingly, the Commission concluded that requiring temporary labeling provides a reasonable means for it to meet its objectives in maintaining the ready identification of devices while supporting the overall streamlining and cost-saving objectives embodied in the E-LABEL Act.

22. The Commission accordingly adopted a limited version of its original labeling proposal, specifically requiring a device or its packaging be labeled such that the device can be identified as complying with the FCC's equipment authorization requirements. This could be accomplished via stick-on label, printing on the packaging, or other similar means. In many cases, the label might simply display be the FCC ID, or it can also be sufficient to identify the device by model or name, if the Web page with the relevant regulatory information is readily identifiable. The Commission found that this requirement would afford parties with considerably more flexibility than its existing rules—many of which require external labeling to be readily visible—as well as the existing KDB guidance and it would significantly reduce the potential burdens that parties had identified in the original proposal.

23. Labeling for small devices. The Commission adopted a rule specifying that, in the event that a device is so small that its identifying information cannot be displayed on its surface in four-point type or larger, and it does not have a capability for electronic display, then that device's identifying information may be placed in its user manual.

24. Importation Rules. To ensure that RF devices brought into the United States comply with the Commission's technical standards, the Commission rules set out specific conditions under which RF devices that are capable of causing harmful interference to radio communications may be imported into the United States. The Commission eliminated the FCC-specific customs declaration filing requirement (effected by FCC Form 740) and modified rules specifying responsibility for the compliance of imported RF products to account for this change.

25. Importation declaration/FCC Form 740. The Commission discontinued use of FCC Form 740 and eliminated §§ 2.1205 and 2.1203(b), thus removing the Form 740 filing requirements. It found nothing in the record to indicate that the existing Form 740 filing process provides a substantial deterrent to illegal importation of RF devices, that the existing filing requirement creates large burdens in light of the growth in the number and type of RF devices being imported, and that there is now a wider availability of product and manufacturer information, including that available to the FCC from the Custom and Border Protection (CBP)'s database.

26. Compliance Responsibilities. The Commission retained the requirement that there must be an entity that assumes responsibility for the compliance of the device and modified the rules to ensure the existence and identity (and a domestic presence under the new SDoC rules), of such a responsible party.

27. The responsible party can be the importer or the consignee or the customs broker. The Commission noted that customs brokers have the ability to decline to broker shipments for which no other party will take responsibility, and they can take added steps to ensure that their clients follow our rules for shipments they broker (e.g., by requiring a compliance statement from clients or obtaining an indemnification agreement or suitable bonding). The new rule also requires the submission of supporting documentation of compliance upon request by the Commission.

28. Increasing the number of trade show devices. The Commission modified § 2.1204(a)(4), which allows for the importation of RF devices for demonstration purposes at a trade show, provided that those devices will not be sold or marketed, to permit the importation of up to 400 devices of any type for that purpose. The prior rule allowed for 200 units for devices used in licensed services (including the “licensed by rule” services) and 10 units for all other products, but also allowed for the importation of a greater number of devices upon written approval from OET. The revised limits are appropriate and will reduce overall administrative burdens. Based on past experiences with trade shows in which parties have sought approval to import and demonstrate more devices than the current rules allow, the new limit should accommodate future needs while still maintaining a check on the potential that too many imported trade show devices could lead to interference concerns. The option to seek written approval to import more than 400 devices will remain available under new § 2.1204(a)(4)(ii) for any such cases that might occur.

29. Excluded devices. The Commission did not adopt its proposal to remove the exclusion contained in § 2.1202(a) of the rules for certain unintentional radiators “which utilize low level battery power and which do not contain provisions for operation while connected to AC power lines” from complying with the Commission's importation conditions. In response to commenters' concerns, it retained the exclusion and its description in the rules, but removed the list of example devices (e.g., cameras, musical greeting cards, and hand-held calculators) contained in the rules that, in many cases, are obsolete and can be misleading.

30. Devices imported for personal use. The Commission revised § 2.1204(a)(7) to allow an individual to import for personal use up to three devices, including those covered under the current exemption and adding intentional RF transmitters whether or not used in conjunction with licensed service and identified under our rules as client or subscriber devices. It limited the expansion of the rule to encompass client or subscriber devices to account for modern use scenarios while still ensuring that the importation rules continue to offer adequate protection against the types of devices that have the greatest potential to lead to cases of harmful interference.

31. Measurement Procedures. These rule modifications will make it easier to keep up with changes in technology and industry measurement standards and address the evolution of how new technologies are incorporated into ensuing generations of devices, thus making it easier to ensure that RF devices are tested properly.

32. Streamlining and Consolidating References to KDB Guidance. The Commission modified § 2.947(a)(3), which had referred to “any measurement procedure acceptable to the Commission,” to specifically include a reference to the advisory information that is available in the KDB. This assists manufacturers and the public by providing a clear reference to an existing resource that provides technical guidance. A new provision (subsection (g)) requires test reports to contain adequate test data or sufficient justification as to why test data was not required. This will help ensure consistency among submissions, particularly when a party is not submitting all possible testing data that could be performed. The Commission also added references to KDB Publications in Parts 15 (for unlicensed RF devices) and Part 18 (for Industrial, Scientific, and Medical (ISM) Equipment).

33. References to Industry Standards. The Commission revised the specific measurement procedures contained in §§ 15.31, 15.32 and 15.35 to remove any redundancy with the ANSI C63.4-2014 and ANSI C63.10-2013 procedures that are specified by reference in §§ 15.31(a)(3) and (a)(4) and, in the case of § 15.35(a), to reference ANSI C63.4-2014 clause 4 for specifications on measuring instrumentation using a CISPR-quasi peak detector function and related measurement bandwidths. It did not modify §§ 2.1057 and 15.33(a) so that it could retain clear requirements in the rules on the specified range for frequency measurements.

34. Composite systems. Many products now include devices that operate under multiple rules sections that have distinct authorization requirements and the measurement procedures for the certification of these so-called “composite systems” are included in §§ 15.31(h) and 15.31(k) of the rules. The Commission modified its rules to move most provisions for composite systems to part 2 of its rules since they generally apply to all types of advices. Certain requirements that specifically apply to unlicensed devices remain in §§ 15.31(h) and 15.31(k).

35. ANSI C63.26 (Compliance Testing for Licensed Radio Services). The Commission amended §§ 2.910(c) and 2.1041 to include ANSI C63.26-2015, “American National Standard for Compliance Testing of Transmitters Used in Licensed Radio Services” as an acceptable measurement procedure for equipment that operates in authorized radio services covered by the measurement standard. This standard can be used for measurements that are required by §§ 2.1046, 2.1047, 2.1049, 2.1051, 2.1053, 2.1055, and 2.1057. Use of ANSI standards is long-standing Commission practice and this standard is in the public domain; although there is a fee for its use. It retained all current options in § 2.947 that can be considered in selecting a measurement procedure to be used for demonstrating compliance. Finally, it allowed accredited laboratories to test to the ANSI C63.26 standards for up to two years from the date of adoption of the First Report and Order without an explicit expansion of their scope by an accrediting body.

36. Incorporation by Reference. The FCC is required by law to obtain approval for incorporation by reference from the Office of the Federal Register (OFR). The OFR's requirements for incorporation by reference are set forth in 1 CFR part 51. The OFR's regulations require that agencies must discuss in the preamble of the final rule ways that the materials the agency incorporates by reference are reasonably available to interested persons and how interested parties can obtain the materials. In addition, the preamble of the final rule must summarize the material being incorporated by reference. 1 CFR 51.5(b).

37. In accordance with OFR's requirements, the discussion in this section summarizes ANSI standards. They can be viewed during normal business hours at the Commission address found in ADDRESSES. Copies of the standards are available for purchase from these organizations: The Institute of Electrical and Electronic Engineers (IEEE), 3916 Ranchero Drive, Ann Arbor, MI 48108, 1-800-699-9277, http://www.techstreet.com/ieee; and the American National Standards Institute (ANSI), 25 West 43rd Street, 4th Floor, New York, NY 10036, (212) 642-4900, http://webstore.ansi.org/ansidocstore.

38. (1) ANSI C63.26-2015, “American National Standard for Compliance Testing of Transmitters Used in Licensed Radio Services,” ANSI approved December 11, 2015, IBR approved for § 2.1041.

39. This standard, ANSI C63.26-2015, covers the procedures for testing a wide variety of licensed transmitters; including but not limited to transmitters operating under parts 22, 24, 25, 27, 90, 95 and 101 of the FCC Rules, transmitters subject to the general procedures in part 2 of the FCC Rules and procedures for transmitters not covered in the FCC Rules. The standard also addresses specific topics; e.g., ERP/EIRP, average power measurements and instrumentation requirements.

40. (2) ANSI C63.4-2014: “American National Standard for Methods of Measurement of Radio-Noise Emissions from Low-Voltage Electrical and Electronic Equipment in the Range of 9 kHz to 40 GHz,” ANSI approved June 13, 2014, IBR approved for § 15.35(a).

41. This standard, ANSI C63.4-2014, contains methods, instrumentation, and facilities for measurement of radiofrequency (RF) signals and noise emitted from electrical and electronic devices in the frequency range of 9 kHz to 40 GHz, as usable, for example, for compliance testing to U.S. (47 CFR part 15) and Industry Canada (ICES-003) regulatory requirements.

II. Procedural Matters

A. Paperwork Reduction Act

1. This document contains modified information collection requirements subject to the Paperwork Reduction Act of 1995 (PRA), Public Law 104-13. On August 11, 2017, the Office of Management and Budget determined that the rule changes made in the First Report and Order represent nonsubstantive changes to currently approved collections. Therefore, the existing approvals, OMB control numbers 3060-0329 and 3060-0636, continue to apply to the rules addressed herein.

B. Congressional Review Act

2. The Commission will send a copy of the First Report and Order in a report to be sent to Congress and the Government Accountability Office pursuant to the Congressional Review Act, see 5 U.S.C. 801(a)(1)(A).

C. Final Regulatory Flexibility Act

3. The Regulatory Flexibility Act of 1980 (RFA) requires that an agency prepare a regulatory flexibility analysis for notice and comment rulemakings, unless the agency certifies that “the rule will not, if promulgated, have a significant economic impact on a substantial number of small entities.” Accordingly, the Commission has prepared a Final Regulatory Flexibility Analysis (FRFA), set forth in Appendix B of the First Report and Order concerning the possible impact of the rule changes.

III. Ordering Clauses

4. Accordingly, it is ordered that pursuant to Sections 1, 4(i), 7(a), 301, 303(f), 303(g), 303(r), 307(e), 332, and 720 of the Communications Act of 1934, as amended, 47 U.S.C. 151, 154(i), 157(a), 301, 303(f), 303(g), 303(r), 307(e), 332, 622, and Sections 0.31(g), 0.31(i), and 0.31(j) of the Commission's rules, 47 CFR 0.31(g), 0.31(i), 0.31(j), this Report and Order is adopted.

5. It is further ordered that the rules and requirements adopted herein will become effective upon publication in the Federal Register.

6. It is further ordered that the Commission's Consumer and Governmental Affairs Bureau, Reference Information Center, shall send a copy of this First Report and Order, including the Final Regulatory Flexibility Analysis, to the Chief Counsel for Advocacy of the Small Business Administration.

List of Subjects

47 CFR Part 2

Incorporation by reference, Radio, Reporting and recordkeeping requirements, Telecommunications.

47 CFR Part 15

Communications equipment, Incorporation by reference, Labeling, Radio, Reporting and recordkeeping requirements.

47 CFR Part 18

Business and industry, Radio, Reporting and recordkeeping requirements.

47 CFR Part 73

Communications equipment, Radio, Reporting and recordkeeping requirements.

47 CFR Part 74

Communications equipment, Radio, Reporting and recordkeeping requirements, Television.

47 CFR Part 78

Cable television, Television, Communications equipment, Radio, Reporting and recordkeeping requirements.

47 CFR Part 80

Communications equipment, Marine safety, Radio, Reporting and recordkeeping requirements, Vessels.

47 CFR Part 87

Air transportation, Communications equipment, Radio, Reporting and recordkeeping requirements.

47 CFR Part 90

Administrative practice and procedure, Business and industry, Common carriers, Communications equipment, Radio, Reporting and recordkeeping requirements.

47 CFR Part 101

Communications equipment, Radio, Reporting and recordkeeping requirements.

Federal Communications Commission.
Katura Jackson,
Federal Register Liaison Officer, Office of the Secretary.

Final Rules

For the reasons discussed in the preamble, the Federal Communications Commission amends 47 CFR parts 2, 15, 18, 73, 74, 78, 80, 87, 90, and 101 as follows:

PART 2—FREQUENCY ALLOCATIONS AND RADIO TREATY MATTERS; GENERAL RULES AND REGULATIONS

1. The authority citation for part 2 continues to read as follows:

Authority: 47 U.S.C. 154, 302a, 303, and 336, unless otherwise noted.

2. Revise § 2.803(b)(2) to read as follows:

§ 2.803 Marketing of radio frequency devices prior to equipment authorization.

* * * * *

(b) * * *

(2) For devices subject to authorization under Supplier's Declaration of Conformity in accordance with the rules in subpart J of this part, the device complies with all applicable technical, labeling, identification and administrative requirements; or

* * * * *

3. Revise § 2.901 to read as follows:

§ 2.901 Basis and purpose.

(a) In order to carry out its responsibilities under the Communications Act and the various treaties and international regulations, and in order to promote efficient use of the radio spectrum, the Commission has developed technical standards for radio frequency equipment and parts or components thereof. The technical standards applicable to individual types of equipment are found in that part of the rules governing the service wherein the equipment is to be operated. In addition to the technical standards provided, the rules governing the service may require that such equipment be authorized under Supplier's Declaration of Conformity or receive a grant of certification from a Telecommunication Certification Body.

(b) Sections 2.906 through 2.1077 describe the procedure for a Supplier's Declaration of Conformity and the procedures to be followed in obtaining certification and the conditions attendant to such a grant.

§ 2.902 [Removed]

4. Remove § 2.902.

5. Revise § 2.906 to read as follows:

§ 2.906 Supplier's Declaration of Conformity.

(a) Supplier's Declaration of Conformity (SDoC) is a procedure where the responsible party, as defined in § 2.909, makes measurements or completes other procedures found acceptable to the Commission to ensure that the equipment complies with the appropriate technical standards. Submittal to the Commission of a sample unit or representative data demonstrating compliance is not required unless specifically requested pursuant to § 2.945.

(b) Supplier's Declaration of Conformity is applicable to all items subsequently marketed by the manufacturer, importer, or the responsible party that are identical, as defined in § 2.908, to the sample tested and found acceptable by the manufacturer.

(c) The responsible party may, if it desires, apply for Certification of a device subject to the Supplier's Declaration of Conformity. In such cases, all rules governing certification will apply to that device.

6. Revise § 2.909 to read as follows:

§ 2.909 Responsible party.

(a) In the case of equipment that requires the issuance of a grant of certification, the party to whom that grant of certification is issued is responsible for the compliance of the equipment with the applicable standards. If the radio frequency equipment is modified by any party other than the grantee and that party is not working under the authorization of the grantee pursuant to § 2.929(b), the party performing the modification is responsible for compliance of the product with the applicable administrative and technical provisions in this chapter.

(b) For equipment subject to Supplier's Declaration of Conformity the party responsible for the compliance of the equipment with the applicable standards, who must be located in the United States (see § 2.1077), is set forth as follows:

(1) The manufacturer or, if the equipment is assembled from individual component parts and the resulting system is subject to authorization under Supplier's Declaration of Conformity, the assembler.

(2) If the equipment by itself, or, a system is assembled from individual parts and the resulting system is subject to Supplier's Declaration of Conformity and that equipment or system is imported, the importer.

(3) Retailers or original equipment manufacturers may enter into an agreement with the responsible party designated in paragraph (b)(1) or (b)(2) of this section to assume the responsibilities to ensure compliance of equipment and become the new responsible party.

(4) If the radio frequency equipment is modified by any party not working under the authority of the responsible party, the party performing the modifications, if located within the U.S., or the importer, if the equipment is imported subsequent to the modifications, becomes the new responsible party.

(c) If the end product or equipment is subject to both certification and Supplier's Declaration of Conformity (i.e., composite system), all the requirements of paragraphs (a) and (b) of this section apply.

(d) If, because of modifications performed subsequent to authorization, a new party becomes responsible for ensuring that a product complies with the technical standards and the new party does not obtain a new equipment authorization, the equipment shall be labeled, following the specifications in § 2.925(d), with the following: “This product has been modified by [insert name, address and telephone number or internet contact information of the party performing the modifications].”

(e) In the case of transfer of control of equipment, as in the case of sale or merger of the responsible party, the new entity shall bear the responsibility of continued compliance of the equipment.

7. Amend § 2.910 as follows:

a. In the introductory text of paragraph (c), remove “ISO” and add in its place “IEEE”;

b. In paragraph (c)(1)(i), remove the last “and”; and

c. Add paragraph (c)(3).

The addition reads as follows:

§ 2.910 Incorporation by reference.

* * * * *

(c) * * *

(3) ANSI C63.26-2015, “American National Standard of Procedures for Compliance Testing of Transmitters Used in Licensed Radio Services,” ANSI approved December 11, 2015, IBR approved for § 2.1041(b).

* * * * *

8. Amend § 2.925 by revising the introductory text of paragraph (a), paragraphs (a)(3), (b), and (f), redesignating the Note following paragraph (f) as “Note to paragraph (f)”, and removing paragraph (g) to read as follows:

§ 2.925 Identification of equipment.

(a) Each equipment covered in an application for equipment authorization shall bear a label listing the following:

* * * * *

(3) The information required may be provided electronically pursuant to § 2.935.

(b) Any device subject to more than one equipment authorization procedure may be assigned a single FCC Identifier. However, a single FCC Identifier is required to be assigned to any device consisting of two or more sections assembled in a common enclosure, on a common chassis or circuit board, and with common frequency controlling circuits. Devices to which a single FCC Identifier has been assigned shall be identified pursuant to paragraph (a) of this section.

(1) Separate FCC Identifiers may be assigned to a device consisting of two or more sections assembled in a common enclosure, but constructed on separate sub-units or circuit boards with independent frequency controlling circuits. The FCC Identifier assigned to any transmitter section shall be preceded by the term TX FCC ID, the FCC Identifier assigned to any receiver section shall be preceded by the term RX FCC ID and the identifier assigned to any remaining section(s) shall be preceded by the term FCC ID.

(2) Where terminal equipment subject to part 68 of this chapter, and a radiofrequency device subject to equipment authorization requirements are assembled in a common enclosure, the device shall be labeled in accordance with the Hearing Aid Compatibility-related requirements in part 68 of this chapter and the requirements published by the Administrative Council for Terminal Attachments, and shall also display the FCC Identifier in the format specified in paragraph (a) of this section.

(3) For a transceiver, the receiver portion of which is subject to Supplier's Declaration of Conformity pursuant to § 15.101 of this chapter, and the transmitter portion is subject to certification, the FCC Identifier required for the transmitter portion shall be preceded by the term FCC ID.

* * * * *

(f) The FCC Identifier including the term “FCC ID” shall be in a size of type large enough to be readily legible, consistent with the dimensions of the equipment and its label. However, the type size for the FCC Identifier is not required to be larger than eight-point. If a device is so small that it is impractical to label it with the FCC Identifier in a font that is four-point or larger, and the device does not have a display that can show electronic labeling, then the FCC Identifier shall be placed in the user manual and must also either be placed on the device packaging or on a removable label attached to the device.

* * * * *

9. Revise § 2.926(e) to read as follows:

§ 2.926 FCC identifier.

* * * * *

(e) No FCC Identifier may be used on equipment to be marketed unless that specific identifier has been validated by a grant of equipment certification. This shall not prohibit placement of an FCC identifier on a transceiver which includes a receiver subject to Suppliers Declaration of Conformity pursuant to § 15.101 of this chapter, provided that the transmitter portion of such transceiver is covered by a valid grant of certification. The FCC Identifier is uniquely assigned to the grantee and may not be placed on the equipment without authorization by the grantee. See § 2.803 for conditions applicable to the display at trade shows of equipment which has not been granted equipment authorization where such grant is required prior to marketing. Labeling of such equipment may include model or type numbers, but shall not include a purported FCC Identifier.

10. Amend § 2.927 by revising the section heading and paragraph (a) to read as follows:

§ 2.927 Limitations on grants.

(a) A grant of certification is valid only when the device is labeled in accordance with § 2.925 and remains effective until set aside, revoked or withdrawn, rescinded, surrendered, or a termination date is otherwise established by the Commission.

* * * * *

11. Revise § 2.931 to read as follows:

§ 2.931 Responsibilities.

(a) The responsible party warrants that each unit of equipment marketed under its grant of certification and bearing the identification specified in the grant will conform to the unit that was measured and that the data (design and rated operational characteristics) filed with the application for certification continues to be representative of the equipment being produced under such grant within the variation that can be expected due to quantity production and testing on a statistical basis.

(b)-(c) [Reserved]

(d) In determining compliance for devices subject to Supplier's Declaration of Conformity, the responsible party warrants that each unit of equipment marketed under Supplier's Declaration of Conformity will be identical to the unit tested and found acceptable with the standards and that the records maintained by the responsible party continue to reflect the equipment being produced under such Supplier's Declaration of Conformity within the variation that can be expected due to quantity production and testing on a statistical basis.

(e) For equipment subject to Supplier's Declaration of Conformity, the responsible party must reevaluate the equipment if any modification or change adversely affects the emanation characteristics of the modified equipment. The responsible party bears responsibility for continued compliance of subsequently produced equipment.

12. Add § 2.935 to read as follows:

§ 2.935 Electronic labeling of radiofrequency devices.

(a) Any radiofrequency device equipped with an integrated electronic display screen, or a radiofrequency device without an integrated screen that can only operate in conjunction with a device that has an electronic display screen, may display on the electronic display the FCC Identifier, any warning statements, or other information that the Commission's rules would otherwise require to be shown on a physical label attached to the device.

(b) Devices displaying their FCC Identifier, warning statements, or other information electronically must make this information readily accessible on the electronic display. Users must be provided with prominent instructions on how to access the information in the operating instructions, inserts in packaging material, or other easily accessible format at the time of purchase. The access instructions may also be provided via the product-related Web site, if such a Web site exists; the packaging material must provide specific instructions on how to locate the Web site information, and a copy of these instructions must be included in the application for equipment certification.

(c) Devices displaying their FCC Identifier, warning statements, or other information electronically must permit access to the information without requiring special codes, accessories or permissions and the access to this information must not require more than three steps from the device setting menu. The number of steps does not include those steps for use of screen locks, passcodes or similar security protection designed to control overall device access.

(d) The electronically displayed FCC Identifier, warning statements, or other information must be displayed electronically in a manner that is clearly legible without the aid of magnification;

(e) The necessary label information must be programmed by the responsible party and must be secured in such a manner that third-parties cannot modify it.

(f) Devices displaying their FCC Identifier, warning statements, or other information electronically must also be labeled, either on the device or its packaging, with the FCC Identifier or other information (such as a model number and identification of a Web page that hosts the relevant regulatory information) that permits the devices to be identified at the time of importation, marketing, and sales as complying with the FCC's equipment authorization requirements. Devices can be labeled with a stick-on label, printing on the packaging, a label on a protective bag, or by similar means. Any removable label shall be of a type intended to survive normal shipping and handling and must only be removed by the customer after purchase.

13. Revise § 2.938 to read as follows:

§ 2.938 Retention of records.

(a) For equipment subject to the equipment authorization procedures in this part, the responsible party shall maintain the records listed as follows:

(1) A record of the original design drawings and specifications and all changes that have been made that may affect compliance with the standards and the requirements of § 2.931.

(2) A record of the procedures used for production inspection and testing to ensure conformance with the standards and the requirements of § 2.931.

(3) A record of the test results that demonstrate compliance with the appropriate regulations in this chapter.

(b) For equipment subject to Supplier's Declaration of Conformity, the responsible party shall, in addition to the requirements in paragraph (a) of this section, maintain a record of the measurements made on an appropriate test site that demonstrates compliance with the applicable regulations in this chapter. The record shall:

(1) Indicate the actual date all testing was performed;

(2) State the name of the test laboratory, company, or individual performing the testing. The Commission may request additional information regarding the test site, the test equipment or the qualifications of the company or individual performing the tests;

(3) Contain a description of how the device was actually tested, identifying the measurement procedure and test equipment that was used;

(4) Contain a description of the equipment under test (EUT) and support equipment connected to, or installed within, the EUT;

(5) Identify the EUT and support equipment by trade name and model number and, if appropriate, by FCC Identifier and serial number;

(6) Indicate the types and lengths of connecting cables used and how they were arranged or moved during testing;

(7) Contain at least two drawings or photographs showing the test set-up for the highest line conducted emission and showing the test set-up for the highest radiated emission. These drawings or photographs must show enough detail to confirm other information contained in the test report. Any photographs used must clearly show the test configuration used;

(8) List all modifications, if any, made to the EUT by the testing company or individual to achieve compliance with the regulations in this chapter;

(9) Include all of the data required to show compliance with the appropriate regulations in this chapter;

(10) Contain, on the test report, the signature of the individual responsible for testing the product along with the name and signature of an official of the responsible party, as designated in § 2.909; and

(11) A copy of the compliance information, as described in § 2.1077, required to be provided with the equipment.

(c) The provisions of paragraph (a) of this section shall also apply to a manufacturer of equipment produced under an agreement with the original responsible party. The retention of the records by the manufacturer under these circumstances shall satisfy the grantee's responsibility under paragraph (a) of this section.

(d) For equipment subject to more than one equipment authorization procedure, the responsible party must retain the records required under all applicable provisions of this section.

(e) For equipment subject to rules that include a transition period, the records must indicate the particular transition provisions that were in effect when the equipment was determined to be compliant.

(f) For equipment subject to certification, records shall be retained for a one year period after the marketing of the associated equipment has been permanently discontinued, or until the conclusion of an investigation or a proceeding if the responsible party (or, under paragraph (c) of this section, the manufacturer) is officially notified that an investigation or any other administrative proceeding involving its equipment has been instituted. For all other records kept pursuant to this section, a two-year period shall apply.

(g) If radio frequency equipment is modified by any party other than the original responsible party, and that party is not working under the authorization of the original responsible party, the party performing the modifications is not required to obtain the original design drawings specified in paragraph (a)(1) of this section. However, the party performing the modifications must maintain records showing the changes made to the equipment along with the records required in paragraph (a)(3) of this section. A new equipment authorization may also be required.

14. Amend § 2.945 by revising paragraphs (b)(1) and (c) to read as follows:

§ 2.945 Submission of equipment for testing and equipment records.

* * * * *

(b) * * *

(1) The Commission may request that the responsible party or any other party marketing equipment subject to this chapter submit a sample of the equipment, or provide a voucher for the equipment to be obtained from the marketplace, to determine the extent to which production of such equipment continues to comply with the data filed by the applicant or on file with the responsible party for equipment subject to Supplier's Declaration of Conformity. The Commission may request that a sample or voucher to obtain a product from the marketplace be submitted to the Commission, or in the case of equipment subject to certification, to the TCB that certified the equipment.

* * * * *

(c) Submission of records. Upon request by the Commission, each responsible party shall submit copies of the records required by § 2.938 to the Commission. Failure of a responsible party or other party marketing equipment subject to this chapter to comply with a request from the Commission for records within 21 days may be cause for forfeiture, pursuant to § 1.80 of this chapter. The Commission may consider extensions of time upon submission of a showing of good cause.

* * * * *

15. Amend § 2.947 by revising paragraphs (a)(3) and (c), and adding paragraphs (f) and (g), to read as follows:

§ 2.947 Measurement procedure.

(a) * * *

(3) Any measurement procedure acceptable to the Commission may be used to prepare data demonstrating compliance with the requirements of this chapter. Advisory information regarding measurement procedures can be found in the Commission's Knowledge Database, which is available at www.fcc.gov/labhelp.

* * * * *

(c) In the case of equipment requiring measurement procedures not specified in the references set forth in paragraphs (a)(1) through (3) of this section, the applicant shall submit a detailed description of the measurement procedures actually used.

* * * * *

(f) A composite system is a system that incorporates different devices contained either in a single enclosure or in separate enclosures connected by wire or cable. If the individual devices in a composite system are subject to different technical standards, each such device must comply with its specific standards. In no event may the measured emissions of the composite system exceed the highest level permitted for an individual component. Testing for compliance with the different standards shall be performed with all of the devices in the system functioning. If the composite system incorporates more than one antenna or other radiating source and these radiating sources are designed to emit at the same time, measurements of conducted and radiated emissions shall be performed with all radiating sources that are to be employed emitting.

(g) For each technical requirement in this chapter, the test report shall provide adequate test data to demonstrate compliance for the requirement, or in absence of test data, justification acceptable to the Commission as to why test data is not required.

16. Amend § 2.948 by revising paragraph (a), the introductory text of paragraph (b), and paragraphs (b)(3) and (e) to read as follows:

§ 2.948 Measurement facilities.

(a) Equipment authorized under the certification procedure shall be tested at a laboratory that is accredited in accordance with paragraph (e) of this section.

(b) A laboratory that makes measurements of equipment subject to an equipment authorization under the certification procedure or Supplier's Declaration of Conformity shall compile a description of the measurement facilities employed.

* * * * *

(3) The description of the measurement facilities shall be retained by the party responsible for authorization of the equipment and provided to the Commission upon request.

(i) The party responsible for authorization of the equipment may rely upon the description of the measurement facilities retained by an independent laboratory that performed the tests. In this situation, the party responsible for authorization of the equipment is not required to retain a duplicate copy of the description of the measurement facilities.

(ii) No specific site calibration data is required for equipment that is authorized for compliance based on measurements performed at the installation site of the equipment. The description of the measurement facilities may be retained at the site at which the measurements were performed.

* * * * *

(e) A laboratory that has been accredited with a scope covering the measurements required for the types of equipment that it will test shall be deemed competent to test and submit test data for equipment subject to certification. Such a laboratory shall be accredited by a Commission recognized accreditation organization based on the International Organization for Standardization/International Electrotechnical Commission International Standard ISO/IEC 17025, (incorporated by reference, see § 2.910). The organization accrediting the laboratory must be recognized by the Commission's Office of Engineering and Technology, as indicated in § 0.241 of this chapter, to perform such accreditation based on International Standard ISO/IEC 17011 (incorporated by reference, see § 2.910). The frequency for reassessment of the test facility and the information that is required to be filed or retained by the testing party shall comply with the requirements established by the accrediting organization, but shall occur on an interval not to exceed two years.

* * * * *

17. Amend § 2.950 by adding paragraphs (i) and (j) to read as follows:

§ 2.950 Transition periods.

* * * * *

(i) Radio frequency devices that would have been considered eligible for authorization under either the verification or Declaration of Conformity procedures that were in effect prior to November 2, 2017 may continue to be authorized until November 2, 2018 under the appropriate procedure in accordance with the requirements that were in effect immediately prior to November 2, 2017.

(j) All radio frequency devices that were authorized under the verification or Declaration of Conformity procedures prior to November 2, 2017 must continue to meet all requirements associated with the applicable procedure that were in effect immediately prior to November 2, 2017. If any changes are made to such devices after November 2, 2018, the requirements associated with the Supplier's Declaration of Conformity will apply.

Undesignated Center Heading “Verification” [Removed]

18. Remove the undesignated center heading “Verification”.

§§ 2.951 through 2.955 [Removed]

19. Remove §§ 2.951 through 2.955.

20. Revise § 2.1041 to read as follows:

§ 2.1041 Measurement procedure.

(a) For equipment operating under parts 15 and 18, the measurement procedures are specified in the rules governing the particular device for which certification is requested.

(b) For equipment operating in the authorized radio services, measurements are required as specified in §§ 2.1046, 2.1047, 2.1049, 2.1051, 2.1053, 2.1055 and 2.1057. The measurement procedures in ANSI C63.26-2015 (incorporated by reference, see § 2.910) are acceptable for performing compliance measurements for equipment types covered by the measurement standard. See also § 2.947 for acceptable measurement procedures.

Undesignated Center Heading “Declaration of Conformity” [Revised]

21. Revise the undesignated center heading “Declaration of Conformity” to read “Supplier's Declaration of Conformity”.

22. Revise § 2.1071 to read as follows:

§ 2.1071 Cross reference.

The general provisions of this subpart shall apply to equipment subject to Supplier's Declaration of Conformity.

23. Revise § 2.1072 read as follows:

§ 2.1072 Limitation on Supplier's Declaration of Conformity.

(a) Supplier's Declaration of Conformity signifies that the responsible party, as defined in § 2.909, has determined that the equipment has been shown to comply with the applicable technical standards if no unauthorized change is made in the equipment and if the equipment is properly maintained and operated. Compliance with these standards shall not be construed to be a finding by the responsible party with respect to matters not encompassed by the Commission's rules.

(b) Supplier's Declaration of Conformity by the responsible party, as defined in § 2.909, is effective until a termination date is otherwise established by the Commission.

(c) No person shall, in any advertising matter, brochure, etc., use or make reference to Supplier's Declaration of Conformity in a deceptive or misleading manner or convey the impression that such Supplier's Declaration of Conformity reflects more than a determination by the manufacturer, importer, integrator, or responsible party, as defined in § 2.909, that the device or product has been shown to be capable of complying with the applicable technical standards of the Commission's rules.

§ 2.1073 [Removed]

24. Remove § 2.1073.

25. Revise § 2.1074 to read as follows:

§ 2.1074 Identification.

(a) Devices subject only to Supplier's Declaration of Conformity shall be uniquely identified by the party responsible for marketing or importing the equipment within the United States. However, the identification shall not be of a format which could be confused with the FCC Identifier required on certified equipment. The responsible party shall maintain adequate identification records to facilitate positive identification for each device.

(b) Devices subject to authorization under Supplier's Declaration of Conformity may be labeled with the following logo on a voluntary basis as a visual indication that the product complies with the applicable FCC requirements. The use of the logo on the device does not alleviate the requirement to provide the compliance information required by § 2.1077.

§ 2.1075 [Removed]

26. Remove § 2.1075.

27. Revise § 2.1077 to read as follows:

§ 2.1077 Compliance information.

(a) If a product must be tested and authorized under Supplier's Declaration of Conformity, a compliance information statement shall be supplied with the product at the time of marketing or importation, containing the following information:

(1) Identification of the product, e.g., name and model number;

(2) A compliance statement as applicable, e.g., for devices subject to part 15 of this chapter as specified in § 15.19(a)(3) of this chapter, that the product complies with the rules; and

(3) The identification, by name, address and telephone number or Internet contact information, of the responsible party, as defined in § 2.909. The responsible party for Supplier's Declaration of Conformity must be located within the United States.

(b) If a product is assembled from modular components (e.g., enclosures, power supplies and CPU boards) that, by themselves, are authorized under a Supplier's Declaration of Conformity and/or a grant of certification, and the assembled product is also subject to authorization under Supplier's Declaration of Conformity but, in accordance with the applicable regulations, does not require additional testing, the product shall be supplied, at the time of marketing or importation, with a compliance information statement containing the following information:

(1) Identification of the assembled product, e.g., name and model number.

(2) Identification of the modular components used in the assembly. A modular component authorized under Supplier's Declaration of Conformity shall be identified as specified in paragraph (a)(1) of this section. A modular component authorized under a grant of certification shall be identified by name and model number (if applicable) along with the FCC Identifier number.

(3) A statement that the product complies with part 15 of this chapter.

(4) The identification, by name, address and telephone number or Internet contact information, of the responsible party who assembled the product from modular components, as defined in § 2.909. The responsible party for Supplier's Declaration of Conformity must be located within the United States.

(5) Copies of the compliance information statements for each modular component used in the system that is authorized under Supplier's Declaration of Conformity.

(c) The compliance information statement shall be included in the user's manual or as a separate sheet. In cases where the manual is provided only in a form other than paper, such as on a computer disk or over the Internet, the information required by this section may be included in the manual in that alternative form, provided the user can reasonably be expected to have the capability to access information in that form. The information may be provided electronically as permitted in § 2.935.

28. Revise § 2.1201(b) to read as follows:

§ 2.1201 Purpose.

* * * * *

(b) The rules in this subpart set out the conditions under which radio frequency devices as defined in § 2.801 that are capable of causing harmful interference to radio communications may be imported into the U.S.A.

* * * * *

29. Revise § 2.1202 to read as follows:

§ 2.1202 Exclusions.

The provisions of this subpart do not apply to the importation of:

(a) Unintentional radiators that are exempted from technical standards and other requirements as specified in § 15.103 of this chapter or utilize low level battery power and that do not contain provisions for operation while connected to AC power lines.

(b) Radio frequency devices manufactured and assembled in the U.S.A. that meet applicable FCC technical standards and that have not been modified or received further assembly.

(c) Radio frequency devices previously properly imported that have been exported for repair and re-imported for use.

(d) Subassemblies, parts, or components of radio frequency devices unless they constitute an essentially completed device which requires only the addition of cabinets, knobs, speakers, or similar minor attachments before marketing or use. This exclusion does not apply to computer circuit boards that are actually peripheral devices as defined in § 15.3(r) of this chapter and all devices that, by themselves, are subject to FCC marketing rules.

30. Revise § 2.1203 to read as follows:

§ 2.1203 General requirement for entry into the U.S.A.

(a) No radio frequency device may be imported into the Customs territory of the United States unless the importer or ultimate consignee, or their designated customs broker, determines that the device meets one of the conditions for entry set out in § 2.1204.

(b) Failure to satisfy at least one of the entry conditions for importation of radio frequency devices may result in refused entry, refused withdrawal for consumption, required redelivery to the Customs port, and other administrative, civil and criminal remedies provided by law.

(c) Whoever makes a determination pursuant to § 2.1203(a) must provide, upon request made within one year of the date of entry, documentation on how an imported radio frequency device was determined to be in compliance with Commission requirements.

31. Revise § 2.1204(a)(4)(i) through (iii) and (a)(7) to read as follows:

§ 2.1204 Import conditions.

(a) * * *

(4) * * *

(i) 400 or fewer devices.

(ii) Prior to importation of a greater number of units than shown above, written approval must be obtained from the Chief, Office of Engineering and Technology, FCC.

(iii) Distinctly different models of a product and separate generations of a particular model under development are considered to be separate devices.

* * * * *

(7) Three or fewer radio frequency devices are being imported for the individual's personal use and are not intended for sale. Unless exempted otherwise in this chapter, the permitted devices must be from one or more of the following categories:

(i) Unintentional radiator as defined in part 15 of this chapter which may include radio receivers, computers or other Class B digital devices in part 15 of this chapter.

(ii) Consumer ISM equipment as defined in part 18 of this chapter.

(iii) Intentional radiators subject to part 15 rules only if they can be used in client modes as specified in § 15.202 of this chapter.

(iv) Transmitters operating under rules which require a station license as subscribers permitted under § 1.903 of this chapter and operated under the authority of an operator license issued by the Commission.

* * * * *

§ 2.1205 [Removed]

32. Remove § 2.1205.

PART 15—RADIO FREQUENCY DEVICES

33. The authority citation for part 15 continues to read as follows:

Authority: 47 U.S.C. 154, 302a, 303, 304, 307, 336, 544a, and 549.

34. Revise § 15.1(c) to read as follows:

§ 15.1 Scope of this part.

* * * * *

(c) Unless specifically exempted, the operation or marketing of an intentional or unintentional radiator that is not in compliance with the administrative and technical provisions in this part, including prior equipment authorization, as appropriate, is prohibited under section 302 of the Communications Act of 1934, as amended, and subpart I of part 2 of this chapter. The equipment authorization procedures are detailed in subpart J of part 2 of this chapter.

35. Amend § 15.19 by revising paragraph (a) and removing and reserving paragraph (b) to read as follows:

§ 15.19 Labeling requirements.

(a) In addition to the requirements in part 2 of this chapter, a device subject to certification, or Supplier's Declaration of Conformity shall be labeled as follows:

(1) Receivers associated with the operation of a licensed radio service, e.g., FM broadcast under part 73 of this chapter, land mobile operation under part 90 of this chapter, etc., shall bear the following statement in a conspicuous location on the device:

This device complies with part 15 of the FCC Rules. Operation is subject to the condition that this device does not cause harmful interference.

(2) A stand-alone cable input selector switch, shall bear the following statement in a conspicuous location on the device:

This device complies with part 15 of the FCC Rules for use with cable television service.

(3) All other devices shall bear the following statement in a conspicuous location on the device:

This device complies with part 15 of the FCC Rules. Operation is subject to the following two conditions: (1) This device may not cause harmful interference, and (2) this device must accept any interference received, including interference that may cause undesired operation.

(4) Where a device is constructed in two or more sections connected by wires and marketed together, the statement specified under paragraph (a) of this section is required to be affixed only to the main control unit.

(5) When the device is so small or for such use that it is impracticable to label it with the statement specified under paragraph (a) of this section in a font that is four-point or larger, and the device does not have a display that can show electronic labeling, then the information required by this paragraph shall be placed in the user manual and must also either be placed on the device packaging or on a removable label attached to the device.

(b) [Reserved]

* * * * *

36. Revise § 15.25(b) and (c) to read as follows:

§ 15.25 Kits.

* * * * *

(b) At least two units of the kit shall be assembled in exact accordance with the instructions supplied with the product to be marketed. If all components required to fully complete the kit (other than those specified in paragraph (a) of this section that are needed for compliance with the technical provisions and must be included with the kit) are not normally furnished with the kit, assembly shall be made using the recommended components. The assembled units shall be certified or authorized under Supplier's Declaration of Conformity, as appropriate, pursuant to the requirements of this part.

(1) The measurement data required for a TV interface device subject to certification shall be obtained for each of the two units and submitted with an application for certification pursuant to subpart J of part 2 of this chapter.

(2) The measurement data required for a TV interface device subject to Supplier's Declaration of Conformity shall be obtained for the units tested and retained on file pursuant to the provisions of subpart J of part 2 of this chapter.

(c) A copy of the exact instructions that will be provided for assembly of the device shall be submitted with an application for certification. Those parts that are not normally furnished shall be detailed in the application for certification.

* * * * *

37. Revise § 15.27(a) to read as follows:

§ 15.27 Special accessories.

(a) Equipment marketed to a consumer must be capable of complying with the necessary regulations in the configuration in which the equipment is marketed. Where special accessories, such as shielded cables and/or special connectors, are required to enable an unintentional or intentional radiator to comply with the emission limits in this part, the equipment must be marketed with, i.e., shipped and sold with, those special accessories. However, in lieu of shipping or packaging the special accessories with the unintentional or intentional radiator, the responsible party may employ other methods of ensuring that the special accessories are provided to the consumer, without additional charge, at the time of purchase. Information detailing any alternative method used to supply the special accessories shall be included in the application for a grant of equipment authorization or retained in the Supplier's Declaration of Conformity records, as appropriate. The party responsible for the equipment, as detailed in § 2.909 of this chapter, shall ensure that these special accessories are provided with the equipment. The instruction manual for such devices shall include appropriate instructions on the first page of the text concerned with the installation of the device that these special accessories must be used with the device. It is the responsibility of the user to use the needed special accessories supplied with the equipment. In cases where the manual is provided only in a form other than paper, such as on a computer disk or over the Internet, the information required by this section may be included in the manual in that alternative form, provided the user can reasonably be expected to have the capability to access information in that form.

* * * * *

38. Revise § 15.29(d) to read as follows:

§ 15.29 Inspection by the Commission.

* * * * *

(d) The Commission, from time to time, may request the party responsible for compliance, including an importer, to submit to the FCC Laboratory in Columbia, Maryland, various equipment to determine that the equipment continues to comply with the applicable standards. Shipping costs to the Commission's Laboratory and return shall be borne by the responsible party. Testing by the Commission will be performed using the measurement procedure(s) that was in effect at the time the equipment was authorized.

39. Amend § 15.31 by adding Note 1 to paragraph (a)(4) and revising paragraphs (b), (d), (f)(4), (h), (j), and (k) to read as follows:

§ 15.31 Measurement standards.

* * * * *

(a) * * *

(4) * * *

Note 1 to paragraph (a)(4): Digital devices tested to show compliance with the provisions of § 15.109(g)(2) must be tested following the ANSI C63.4-2014 procedure described in paragraph (a)(4) of this section.

(b) All parties making compliance measurements on equipment subject to the requirements of this part are urged to use these measurement procedures. Any party using other procedures should ensure that such other procedures can be relied on to produce measurement results compatible with the FCC measurement procedures. The description of the measurement procedure used in testing the equipment for compliance and a list of the test equipment actually employed shall be made part of an application for certification or included with the data required to be retained by the party responsible for devices authorized pursuant to Supplier's Declaration of Conformity.

* * * * *

(d) Field strength measurements shall be made, to the extent possible, on an open area test site. Test sites other than open area test sites may be employed if they are properly calibrated so that the measurement results correspond to what would be obtained from an open area test site. In the case of equipment for which measurements can be performed only at the installation site, such as perimeter protection systems, carrier current systems, and systems employing a “leaky” coaxial cable as an antenna, measurements for Supplier's Declaration of Conformity or for obtaining a grant of equipment authorization shall be performed at a minimum of three installations that can be demonstrated to be representative of typical installation sites.

* * * * *

(f) * * *

(4) The applicant for a grant of certification shall specify the extrapolation method used in the application filed with the Commission. For equipment subject to Supplier's Declaration of Conformity, this information shall be retained with the measurement data.

* * * * *

(h) A composite system, as defined in § 2.947(f) of this chapter, that incorporates a carrier current system shall be tested as if the carrier current system were incorporated in a separate device; that is, the device shall be tested for compliance with whatever rules would apply to the device were the carrier current system not incorporated, and the carrier current system shall be tested for compliance with the rules applicable to carrier current systems.

* * * * *

(j) If the equipment under test consists of a central control unit and an external or internal accessory(ies) (peripheral) and the party declaring compliance of the equipment or applying for a grant of equipment authorization manufactures or assembles the central control unit and at least one of the accessory devices that can be used with that control unit, testing of the control unit and/or the accessory(ies) must be performed using the devices manufactured or assembled by that party, in addition to any other needed devices which the party does not manufacture or assemble. If the party declaring compliance of the equipment or applying for a grant of equipment authorization does not manufacture or assemble the central control unit and at least one of the accessory devices that can be used with that control unit or the party can demonstrate that the central control unit or accessory(ies) normally would be marketed or used with equipment from a different entity, testing of the central control unit and/or the accessory(ies) must be performed using the specific combination of equipment which is intended to be marketed or used together. Only one test using peripherals or accessories that are representative of the devices that will be employed with the equipment under test is required. All possible equipment combinations are not required to be tested. The accessories or peripherals connected to the device being tested shall be unmodified, commercially available equipment.

(k) Composite systems (i.e., systems that incorporate different devices contained in a single enclosure or in separate enclosures connected by wire or cable) shall be measured for compliance with the technical standards of this part in accordance with the procedures in § 2.947(f) of this chapter. For digital devices that consist of a combination of Class A and Class B devices, the total combination of which results in a Class A digital device, it is only necessary to demonstrate that the equipment combination complies with the limits for a Class A device. This equipment combination may not be employed for obtaining a grant of equipment authorization or declaring compliance of a Class B digital device. However, if the digital device combination consists of a Class B central control unit, e.g., a personal computer, and a Class A internal peripheral(s), it must be demonstrated that the Class B central control unit continues to comply with the limits for a Class B digital device with the Class A internal peripheral(s) installed but not active.

* * * * *

40. Revise § 15.32 to read as follows:

§ 15.32 Test procedures for CPU boards and computer power supplies.

Power supplies and CPU boards used with personal computers and for which separate authorizations are required to be obtained shall be tested in accordance with the specific procedures published or otherwise authorized by the Commission.

41. Revise § 15.35 to read as follows:

§ 15.35 Measurement detector functions and bandwidths.

The conducted and radiated emission limits shown in this part are based on the following, unless otherwise specified in this part:

(a) On any frequency or frequencies below or equal to 1000 MHz, the limits shown are based on measuring equipment employing a CISPR quasi-peak detector function and related measurement bandwidths, unless otherwise specified. The specifications for the measuring instrumentation using the CISPR quasi-peak detector can be found in ANSI C63.4-2014, clause 4 (incorporated by reference, see § 15.38). As an alternative to CISPR quasi-peak measurements, the responsible party, at its option, may demonstrate compliance with the emission limits using measuring equipment employing a peak detector function as long at the same bandwidth as indicated for CISPR quasi-peak measurements are employed.

(b) Unless otherwise specified, on any frequency or frequencies above 1000 MHz, the radiated emission limits are based on the use of measurement instrumentation employing an average detector function. Unless otherwise specified, measurements above 1000 MHz shall be performed using a minimum resolution bandwidth of 1 MHz. When average radiated emission measurements are specified in this part, including average emission measurements below 1000 MHz, there also is a limit on the peak level of the radio frequency emissions. Unless otherwise specified, e.g., see §§ 15.250, 15.252, 15.253(d), 15.255, 15.256, and 15.509 through 15.519, the limit on peak radio frequency emissions is 20 dB above the maximum permitted average emission limit applicable to the equipment under test. This peak limit applies to the total peak emission level radiated by the device, e.g., the total peak power level. Note that the use of a pulse desensitization correction factor may be needed to determine the total peak emission level. The instruction manual or application note for the measurement instrument should be consulted for determining pulse desensitization factors, as necessary.

(c) Unless otherwise specified, e.g., §§ 15.255(b), and 15.256(l)(5), when the radiated emission limits are expressed in terms of the average value of the emission, and pulsed operation is employed, the measurement field strength shall be determined by averaging over one complete pulse train, including blanking intervals, as long as the pulse train does not exceed 0.1 seconds. As an alternative (provided the transmitter operates for longer than 0.1 seconds) or in cases where the pulse train exceeds 0.1 seconds, the measured field strength shall be determined from the average absolute voltage during a 0.1 second interval during which the field strength is at its maximum value. The exact method of calculating the average field strength shall be submitted with any application for certification or shall be retained in the measurement data file for equipment subject to Supplier's Declaration of Conformity.

42. Revise § 15.37(c) to read as follows:

§ 15.37 Transition provisions for compliance with the rules.

* * * * *

(c) All radio frequency devices that are authorized on or after July 12, 2004 under the certification, or Supplier's Declaration of Conformity procedures (or the prior verification or declaration of conformity procedures, as applicable) shall comply with the conducted limits specified in § 15.107 or § 15.207 as appropriate. All radio frequency devices that are manufactured or imported on or after July 11, 2005 shall comply with the conducted limits specified in § 15.107 or § 15.207, as appropriate. Equipment authorized, imported or manufactured prior to these dates shall comply with the conducted limits specified in § 15.107 or § 15.207, as appropriate, or with the conducted limits that were in effect immediately prior to September 9, 2002.

* * * * *

43. Amend § 15.38 by redesignating paragraphs (g)(1) and (2) as paragraphs (g)(2) and (3) and adding new paragraph (g)(1) to read as follows:

§ 15.38 Incorporation by reference.

* * * * *

(g) * * *

(1) ANSI C63.4-2014: “American National Standard for Methods of Measurement of Radio-Noise Emissions from Low-Voltage Electrical and Electronic Equipment in the Range of 9 kHz to 40 GHz,” ANSI approved June 13, 2014, IBR approved for § 15.35(a).

* * * * *

44. Revise § 15.101 to read as follows:

§ 15.101 Equipment authorization of unintentional radiators.

(a) Except as otherwise exempted in §§ 15.23, 15.103, and 15.113, unintentional radiators shall be authorized prior to the initiation of marketing, pursuant to the procedures for certification or Supplier's Declaration of Conformity (SDoC) given in subpart J of part 2 of this chapter, as follows:

Table 1 to Paragraph (a)
Type of device | Equipment authorization required
TV Broadcast Receiver | SDoC or Certification.
FM Broadcast Receiver | SDoC or Certification.
CB Receiver | SDoC or Certification.
Superregenerative Receiver | SDoC or Certification.
Scanning Receiver | Certification.
Radar Detector | Certification.
All other receivers subject to Part 15 | SDoC or Certification.
TV Interface Device | SDoC or Certification.
Cable System Terminal Device | SDoC or Certification.
Stand-alone Cable input selector switch | SDoC or Certification.
Class B personal computers and peripherals | SDoC or Certification.
CPU boards and internal power supplies used with Class B personal computers | SDoC or Certification.
Class B personal computers assembled using authorized CPU boards or power supplies | SDoC or Certification.
Class B external switching power supplies | SDoC or Certification.
Other Class B digital devices & peripherals | SDoC or Certification.
Class A digital devices, peripherals & external switching power supplies | SDoC or Certification.
Access Broadband over Power Line (Access BPL) | Certification.
All other devices | SDoC or Certification.

(b) Only those receivers that operate (tune) within the frequency range of 30-960 MHz, CB receivers and radar detectors are subject to the authorizations shown in paragraph (a) of this section. Receivers operating above 960 MHz or below 30 MHz, except for radar detectors and CB receivers, are exempt from complying with the technical provisions of this part but are subject to § 15.5.

(c) Personal computers shall be authorized in accordance with one of the following methods:

(1) The specific combination of CPU board, power supply and enclosure is tested together and authorized under Supplier's Declaration of Conformity or a grant of certification;

(2) The personal computer is authorized under Supplier's Declaration of Conformity or a grant of certification, and the CPU board or power supply in that computer is replaced with a CPU board or power supply that has been separately authorized under Supplier's Declaration of Conformity or a grant of certification; or

(3) The CPU board and power supply used in the assembly of a personal computer have been separately authorized under Supplier's Declaration of Conformity or a grant of certification; and

(4) Personal computers assembled using either of the methods specified in paragraphs (c)(2) or (c)(3) of this section must, by themselves, also be authorized under Supplier's Declaration of Conformity if they are marketed. However, additional testing is not required for this Supplier's Declaration of Conformity, provided the procedures in § 15.102(b) are followed.

(d) Peripheral devices, as defined in § 15.3(r), shall be authorized under Supplier's Declaration of Conformity, or a grant of certification, as appropriate, prior to marketing. Regardless of the provisions of paragraphs (a) or (c) of this section, if a CPU board, power supply, or peripheral device will always be marketed with a specific personal computer, it is not necessary to obtain a separate authorization for that product provided the specific combination of personal computer, peripheral device, CPU board and power supply has been authorized under Supplier's Declaration of Conformity or a grant of certification as a personal computer.

(1) No authorization is required for a peripheral device or a subassembly that is sold to an equipment manufacturer for further fabrication; that manufacturer is responsible for obtaining the necessary authorization prior to further marketing to a vendor or to a user.

(2) Power supplies and CPU boards that have not been separately authorized and are designed for use with personal computers may be imported and marketed only to a personal computer equipment manufacturer that has indicated, in writing, to the seller or importer that they will obtain Supplier's Declaration of Conformity or a grant of certification for the personal computer employing these components.

(e) Subassemblies to digital devices are not subject to the technical standards in this part unless they are marketed as part of a system in which case the resulting system must comply with the applicable regulations. Subassemblies include:

(1) Devices that are enclosed solely within the enclosure housing the digital device, except for: Power supplies used in personal computers; devices included under the definition of a peripheral device in § 15.3(r); and personal computer CPU boards, as defined in § 15.3(bb);

(2) CPU boards, as defined in § 15.3(bb), other than those used in personal computers, that are marketed without an enclosure or power supply; and

(3) Switching power supplies that are separately marketed and are solely for use internal to a device other than a personal computer.

45. Revise § 15.102(b)(4) to read as follows:

§ 15.102 CPU boards and power supplies used in personal computers.

* * * * *

(b) * * *

(4) If the system is marketed, the resulting equipment combination is authorized under Supplier's Declaration of Conformity pursuant to § 15.101(c)(4) and a compliance information statement, as described in § 2.1077(b) of this chapter, is supplied with the system. Marketed systems shall also comply with the labeling requirements in § 15.19 and must be supplied with the information required under §§ 15.21, 15.27 and 15.105; and

* * * * *

46. Revise § 15.123(c)(3) and (c)(5)(iii) to read as follows:

§ 15.123 Labeling of digital cable ready products.

* * * * *

(c) * * *

(3) Subsequent to the testing of its initial unidirectional digital cable product model, a manufacturer or importer is not required to have other models of unidirectional digital cable products tested at a qualified test facility for compliance with the procedures of Uni-Dir-PICS-I01-030903: “Uni-Directional Receiving Device: Conformance Checklist: PICS Proforma,” September 03, 2003 (incorporated by reference, see § 15.38) unless the first model tested was not a television, in which event the first television shall be tested as provided in paragraph (c)(1) of this section. The manufacturer or importer shall ensure that all subsequent models of unidirectional digital cable products comply with the procedures in the Uni-Dir-PICS-I01-030903: “Uni-Directional Receiving Device: Conformance Checklist: PICS Proforma,” September 03, 2003 (incorporated by reference, see § 15.38) and all other applicable rules and standards. The manufacturer or importer shall maintain records indicating such compliance in accordance with Supplier's Declaration of Conformity requirements in part 2, subpart J of this chapter. The manufacturer or importer shall further submit documentation demonstrating compliance with the procedures in the Uni-Dir-PICS-I01-030903: “Uni-Directional Receiving Device: Conformance Checklist: PICS Proforma,” September 03, 2003 (incorporated by reference, see § 15.38) to the qualified test facility.

* * * * *

(5) * * *

(iii) Subsequent to the successful testing of its initial M-UDCP, a manufacturer or importer is not required to have other M-UDCP models tested at a qualified test facility for compliance with M-UDCP-PICS-I04-080225, “Uni-Directional Cable Product Supporting M-Card: Multiple Profiles; Conformance Checklist: PICS,” February 25, 2008 (incorporated by reference, see § 15.38) unless the first model tested was not a television, in which event the first television shall be tested as provided in paragraph (c)(5)(i) of this section. The manufacturer or importer shall ensure that all subsequent models of M-UDCPs comply with M-UDCP-PICS-I04-080225, “Uni-Directional Cable Product Supporting M-Card: Multiple Profiles; Conformance Checklist: PICS,” February 25, 2008 (incorporated by reference, see § 15.38) and all other applicable rules and standards. The manufacturer or importer shall maintain records indicating such compliance in accordance with Supplier's Declaration of Conformity requirements in part 2, subpart J of this chapter. For each M-UDCP model, the manufacturer or importer shall further submit documentation demonstrating compliance with M-UDCP-PICS-I04-080225, “Uni-Directional Cable Product Supporting M-Card: Multiple Profiles; Conformance Checklist: PICS,” February 25, 2008 (incorporated by reference, see § 15.38) to the qualified test facility.

* * * * *

47. Revise § 15.201(a) through (c) to read as follows:

§ 15.201 Equipment authorization requirement.

(a) Intentional radiators operated as carrier current systems, devices operated under the provisions of §§ 15.211, 15.213, and 15.221, and devices operating below 490 kHz in which all emissions are at least 40 dB below the limits in § 15.209 are subject to Suppliers Declaration of Conformity pursuant to the procedures in subpart J of part 2 of this chapter prior to marketing.

(b) Except as otherwise exempted in paragraph (c) of this section and in § 15.23, all intentional radiators operating under the provisions of this part shall be certified by the Telecommunication Certification Bodies pursuant to the procedures in subpart J of part 2 of this chapter prior to marketing.

(c) For devices such as perimeter protection systems which, in accordance with § 15.31(d), are required to be measured at the installation site, each application for certification must be accompanied by a statement indicating that the system has been tested at three installations and found to comply at each installation. Until such time as certification is granted, a given installation of a system that was measured for the submission for certification will be considered to be in compliance with the provisions of this chapter, including the marketing regulations in subpart I of part 2 of this chapter, if tests at that installation show the system to be in compliance with the relevant technical requirements. Similarly, where measurements must be performed on site for equipment subject to Supplier's Declaration of Conformity, a given installation that has been found compliant with the applicable standards will be considered to be in compliance with the provisions of this chapter, including the marketing regulations in subpart I of part 2 of this chapter.

* * * * *

48. Revise § 15.615(a)(4) to read as follows:

§ 15.615 General administrative requirements.

(a) * * *

(4) The manufacturer and type of Access BPL equipment and its associated FCC ID number, or, in the case of Access BPL equipment that has not been subject to certification in the past, the Trade Name and Model Number, as specified on the equipment label.

* * * * *

PART 18—INDUSTRIAL, SCIENTIFIC, AND MEDICAL EQUIPMENT

49. The authority citation for part 18 continues to read as follows:

Authority: 47 U.S.C. 4, 301, 302, 303, 304, 307.

50. Revise § 18.203 to read as follows:

§ 18.203 Equipment authorization.

(a) Consumer ISM equipment, unless otherwise specified, must be authorized under either the Supplier's Declaration of Conformity or the certification procedure prior to use or marketing. An application for certification shall be filed with a Telecommunication Certification Body (TCB), pursuant to the relevant sections in part 2, subpart J of this chapter.

(b) Consumer ultrasonic equipment generating less than 500 watts and operating below 90 kHz, and non-consumer ISM equipment shall be subject to Supplier's Declaration of Conformity, in accordance with the relevant sections of part 2, subpart J of this chapter.

(c) Grants of equipment authorization issued, as well as on-site certifications performed, before March 1, 1986, remain in effect and no further action is required.

51. Revise § 18.209 to read as follows:

§ 18.209 Identification of authorized equipment.

Each device for which a grant of equipment authorization is issued under this part shall be identified pursuant to the applicable provisions of subpart J of part 2 of this chapter.

52. Revise § 18.212 to read as follows:

§ 18.212 Compliance information.

(a) Equipment authorized under Supplier's Declaration of Conformity shall include a compliance statement that contains the information set forth in § 2.1077 of this chapter and a statement identical or similar to the following: “This device complies with part 18 of the FCC Rules.”

(b) The compliance information may be placed in the instruction manual, on a separate sheet, on the packaging, or electronically as permitted under § 2.935 of this chapter. There is no specific format for this information.

53. Revise § 18.311 to read as follows:

§ 18.311 Methods of measurement.

The measurement techniques used to determine compliance with the technical requirements of this part are set out in FCC MP-5, “FCC Methods of Measurements of Radio Noise Emissions from Industrial, Scientific, and Medical equipment,” or compliance measurements made in accordance with the specific procedures otherwise authorized by the Commission.

PART 73—RADIO BROADCAST SERVICES

54. The authority citation for part 73 continues to read as follows:

Authority: 47 U.S.C. 154, 303, 309, 310, 334, 336, and 339.

55. Amend § 73.53 by:

a. Revising paragraphs (a) and (b)(10); and

b. Redesignating the Note following (b)(12)(viii) as Note 1 to paragraph (b).

The revisions read as follows:

§ 73.53 Requirements for authorization of antenna monitors.

(a) Antenna monitors shall be approved with Supplier's Declaration of Conformity that demonstrates compliance with the technical requirements in this section. The procedure for Supplier's Declaration of Conformity is specified in subpart J of part 2 of this chapter.

Note 1 to paragraph (a): The verification procedure has been replaced by Supplier's Declaration of Conformity. Antenna monitors previously authorized under subpart J of part 2 of this chapter may remain in use. See § 2.950 of this chapter.

(b) * * *

(10) Complete and correct schematic diagrams and operating instructions shall be retained by the party responsible for Supplier's Declaration of Conformity of the equipment and submitted to the FCC upon request. For the purpose of equipment authorization, these diagrams and instructions shall be considered as part of the monitor.

* * * * *

56. Amend § 73.1660 by:

a. Revising paragraphs (a), (b) and (e); and

b. Removing “part 2 of the FCC rules” and adding in its place “part 2 of this chapter” in paragraph (d).

The revisions read as follows:

§ 73.1660 Acceptability of broadcast transmitters.

(a)(1) An AM, FM, or TV transmitter shall be approved for compliance with the requirements of this part following the Supplier's Declaration of Conformity procedures described in subpart J of part 2 of this chapter.

Note 1 to paragraph (a)(1): the verification procedure has been replaced by Supplier's Declaration of Conformity. AM, FM, and TV transmitters previously authorized under subpart J of part 2 of this chapter may remain in use. See § 2.950(j) of this chapter.

(2) An LPFM transmitter shall be certified for compliance with the requirements of this part following the procedures described in part 2 of this chapter.

(b) A permittee or licensee planning to modify a transmitter which has been certified or approved with Supplier's Declaration of Conformity must follow the requirements contained in § 73.1690.

* * * * *

(e) Additional rules covering certification and Supplier's Declaration of Conformity, modification of authorized transmitters, and withdrawal of a grant of authorization are contained in part 2 of this chapter.

57. Amend § 73.1665 by:

a. Designating the table following paragraph (b) as “Table 1 to paragraph (b)”; and

b. Revising paragraph (c).

The revision reads as follows:

§ 73.1665 Main transmitters.

* * * * *

(c) A licensee may, without further authority or notification to the FCC, replace an existing main transmitter or install additional main transmitter(s) for use with the authorized antenna if the replacement or additional transmitter(s) has been approved with Supplier's Declaration of Conformity. Within 10 days after commencement of regular use of the replacement or additional transmitter(s), equipment performance measurements, as prescribed for the type of station are to be completed.

Note 1 to paragraph (c): The verification procedure has been replaced by Supplier's Declaration of Conformity. Transmitters previously authorized under subpart J of this chapter may remain in use. See § 2.950 of this chapter.

Note 2 to paragraph (c): Pending the availability of AM broadcast transmitters that are authorized for use in the 1605-1705 kHz band, transmitters that are approved or verified for use in the 535-1605 kHz band may be utilized in the 1605-1705 kHz band if it is shown that the requirements of § 73.44 have been met. Equipment authorization for the transmitter will supersede the applicability of this note.

PART 74—EXPERIMENTAL RADIO, AUXILIARY, SPECIAL BROADCAST AND OTHER PROGRAM DISTRIBUTIONAL SERVICES

58. The authority citation for part 74 continues to read as follows:

Authority: 47 U.S.C. 154, 302a, 303, 307, 309, 310, 336 and 554.

59. Amend § 74.535 by revising paragraph (d)(4) to read as follows:

§ 74.535 Emissions and bandwidth.

* * * * *

(d) * * *

(4) Stations licensed pursuant to an application filed before March 17, 2005, using equipment not conforming with the emission limitations specified above, may continue to operate indefinitely in accordance with the terms of their current authorizations, subject to periodic renewal. existing equipment and equipment of product lines in production before April 16, 2003, authorized via certification or Declaration of Conformity before March 17, 2005, for equipment not conforming to the emission limitations requirements specified above, may continue to be manufactured and/or marketed, but may not be authorized for use under a station license except at stations licensed pursuant to an application filed before March 17, 2005. Any non-conforming equipment authorized under a station license, and replaced on or after March 17, 2005, must be replaced by conforming equipment.

Note 1 to paragraph (d)(4): the Declaration of Conformity procedure has been replaced by the Supplier's Declaration of Conformity procedure. See § 2.950 of this chapter.

* * * * *

60. Section 74.550 is revised to read as follows:

§ 74.550 Equipment authorization.

Each authorization for aural broadcast STL, ICR, and booster stations shall require the use of equipment which has received a grant of certification or authorized under a Supplier's Declaration of Conformity. Equipment which has not been approved under the equipment authorization program and which was in service prior to July 1, 1993, may be retained solely for temporary uses necessary to restore or maintain regular service provided by approved equipment, because the main or primary unit has failed or requires servicing. Such temporary uses may not interfere with or impede the establishment of other aural broadcast auxiliary links and may not occur during more than 720 cumulative hours per year. Should interference occur, the licensee must take all steps necessary to eliminate it, up to and including cessation of operation of the auxiliary transmitter. All unapproved equipment retained for temporary use must have been in the possession of the licensee prior to July 1, 1993, and may not be obtained from other sources. Equipment designed exclusively for fixed operation shall be authorized under Supplier's Declaration of Conformity procedure. The equipment authorization procedures are contained in subpart J of part 2 of this chapter.

Note 1 to § 74.550: The Declaration of Conformity procedure has been replaced by Supplier's Declaration of Conformity. Equipment previously authorized under subpart J of part 2 of this chapter may remain in use. See § 2.950 to this chapter.

Note 2 to § 74.550: Consistent with the note to § 74.502(a), grandfathered equipment in the 942-944 MHz band and STL/ICR users of these frequencies in Puerto Rico are also required to come into compliance by July 1, 1993. The backup provisions described above apply to these stations also.

61. Amend § 74.637 by:

a. Revising paragraph (c)(4); and

b. Designating the table following paragraph (g) as “Table 1 to paragraph (g)”.

The revision reads as follows:

§ 74.637 Emissions and emission limitations.

* * * * *

(c) * * *

(4) Stations licensed pursuant to an application filed before March 17, 2005, using equipment not conforming with the emission limitations specified above, may continue to operate indefinitely in accordance with the terms of their current authorizations, subject to periodic renewal. Existing equipment and equipment of product lines in production before April 16, 2003, authorized via certification or Declaration of Conformity before March 17, 2005, for equipment not conforming to the emission limitations requirements specified above, may continue to be manufactured and/or marketed, but may not be authorized for use under a station license except at stations licensed pursuant to an application filed before March 17, 2005. Any non-conforming equipment authorized under a station license, and replaced on or after March 17, 2005, must be replaced by conforming equipment.

Note 1 to paragraph (c)(4): The Declaration of Conformity procedure has been replaced by Supplier's Declaration of Conformity. See § 2.950 of this chapter.

* * * * *

62. Amend § 74.655 by:

a. Revising paragraphs (a), (b), (d) and (f);

b. Removing “part 2 of the FCC rules” and adding in its place “part 2 of this chapter” in paragraph (c); and

c. Removing “part 2 of the FCC rules and regulations” and adding in its place “part 2 of this chapter” in paragraph (e).

The revisions read as follows:

§ 74.655 Authorization of equipment.

(a) Except as provided in paragraph (b) of this section, all transmitting equipment first marketed for use under this subpart or placed into service after October 1, 1981, must be authorized under the certification procedure or Declaration of Conformity procedure, as detailed in paragraph (f) of this section. Equipment which is used at a station licensed prior to October 1, 1985, which has not been authorized as detailed in paragraph (f) of this section, may continue to be used by the licensee or its successors or assignees, provided that if operation of such equipment causes harmful interference due to its failure to comply with the technical standards set forth in this subpart, the FCC may, at its discretion, require the licensee to take such corrective action as is necessary to eliminate the interference. However, such equipment may not be further marketed or reused under part 74 after October 1, 1985.

Note 1 to paragraph (a): The verification procedure has been replaced by Supplier's Declaration of Conformity. Equipment previously authorized under subpart J of part 2 of this chapter may remain in use. See § 2.950 of this chapter.

(b) Certification or Supplier's Declaration of Conformity is not required for transmitters used in conjunction with TV pickup stations operating with a peak output power not greater than 250 mW. Pickup stations operating in excess of 250 mW licensed pursuant to applications accepted for filing prior to October 1, 1980 may continue operation subject to periodic renewal. If operation of such equipment causes harmful interference the FCC may, at its discretion, require the licensee to take such corrective action as is necessary to eliminate the interference.

* * * * *

(d) Any manufacturer of a transmitter to be used in this service may authorize the equipment under the certification or Supplier's Declaration of Conformity procedures, as appropriate, following the procedures set forth in subpart J of part 2 of this chapter.

* * * * *

(f) Transmitters designed to be used exclusively for a TV STL station, a TV intercity relay station, a TV translator relay station, or a TV microwave booster station, shall be authorized under Supplier's Declaration of Conformity. All other transmitters will be authorized under the certification procedure.

63. Amend § 74.661 by:

a. Designating the table following the introductory text as “Table 1 to § 74.661”;

b. Revising footnote 2 to Table 1; and

c. Adding Note 1 to § 74.661.

The revision and addition read as follows:

§ 74.661 Frequency tolerance.

* * * * *

² Stations licensed pursuant to an application filed before March 17, 2005, for tolerance values exceeding those specified above, may continue to operate indefinitely in accordance with the terms of their current authorizations, subject to periodic renewal. Existing equipment and equipment of product lines in production before April 16, 2003, authorized via certification or Declaration of Conformity before March 17, 2005, for tolerance values exceeding those specified above, may continue to be manufactured and/or marketed, but may not be authorized for use under station license except at stations licensed pursuant to an application filed before March 17, 2005. Any non-conforming equipment authorized under a station license, and replaced on or after March 17, 2005, must be replaced by conforming equipment.

Note 1 to § 74.661: The Declaration of Conformity procedure has been replaced by Supplier's Declaration of Conformity. See § 2.950 of this chapter.

64. Amend § 74.1250 by revising paragraph (a) and the introductory text of paragraph (c) to read as follows:

§ 74.1250 Transmitters and associated equipment.

(a) FM translator and booster transmitting apparatus, and exciters employed to provide a locally generated and modulated input signal to translator and booster equipment, used by stations authorized under the provisions of this subpart must be certified upon the request of any manufacturer of transmitters in accordance with this section and subpart J of part 2 of this chapter. In addition, FM translator and booster stations may use FM broadcast transmitting apparatus authorized via Supplier's Declaration of Conformity or approved under the provisions of part 73 of this chapter.

Note 1 to paragraph (a): The Declaration of Conformity procedure has been replaced by Supplier's Declaration of Conformity. Equipment previously authorized under subpart J of part 2 of this chapter may remain in use. See § 2.950 of this chapter.

* * * * *

(c) The following requirements must be met before translator, booster or exciter equipment will be certified in accordance with this section:

* * * * *

PART 78—CABLE TELEVISION RELAY SERVICE

65. The authority citation for part 78 continues to read as follows:

Authority: 47 U.S.C. 2, 3, 4, 301, 303, 307, 308, 309, 48 Stat., as amended, 1064, 1065, 1066, 1081, 1082, 1083, 1084, 1085; 47 U.S.C. 152, 153, 154, 301, 303, 307, 308, 309.

66. Amend § 78.107 by revising the introductory text to paragraph (a), and the introductory text to paragraph (a)(2) to read as follows:

§ 78.107 Equipment and installation.

(a) Applications for new cable television relay stations, other than fixed stations, will not be accepted unless the equipment specified therein has been certified in accordance with subpart J of part 2 of this chapter. In the case of fixed stations, the equipment must be authorized under Supplier's Declaration of Conformity for use pursuant to the provisions of this subpart. Transmitters designed for use in the 31.0 to 31.3 GHz band shall be authorized under Supplier's Declaration of Conformity.

Note 1 to the introductory text to paragraph (a): The verification procedure has been replaced by Supplier's Declaration of Conformity. Equipment previously authorized under subpart J of part 2 of this chapter may remain in use. See § 2.950 of this chapter.

* * * * *

(2) Neither certification nor Supplier's Declaration of Conformity is required for the following transmitters:

* * * * *

PART 80—STATIONS IN THE MARITIME SERVICES

67. The authority citation for part 80 continues to read as follows:

Authority: Secs. 4, 303, 307(e), 309, and 332, 48 Stat. 1066, 1082, as amended; 47 U.S.C. 154, 303, 307(e), 309, and 332, unless otherwise noted. Interpret or apply 48 Stat. 1064-1068, 1081-1105, as amended; 47 U.S.C. 151-155, 301-609; 3 UST 3450, 3 UST 4726, 12 UST 2377.

68. Amend § 80.203 by revising paragraphs (a), (f), (g), (l), and (m)(2) to read as follows:

§ 80.203 Authorization of transmitters for licensing.

(a) Each transmitter authorized in a station in the maritime services after September 30, 1986, except as indicated in paragraphs (g), (h) and (i) of this section, must be certified by the Commission for part 80 operations. The procedures for certification are contained in part 2 of this chapter. Transmitters of a model that have received equipment authorization before October 1, 1986 will be considered acceptable for use in ship or coast stations as appropriate.

* * * * *

(f) Transmitters certified for single sideband suppressed carrier radiotelephone transmissions may be used for facsimile transmissions without filing for a certification modification provided the transmitters retain certification and comply with the applicable standards in this part.

(g) Manufacturers of ship earth station transmitters intended for use in the INMARSAT space segment are subject to Supplier's Declaration of Conformity pursuant to the procedures given in subpart J of part 2 of this chapter. Such equipment must be approved in accordance with the technical requirements provided by INMARSAT and must be type approved by INMARSAT for use in the INMARSAT space segment. The ship earth station input/output parameters, the data obtained when the equipment is integrated in system configuration and the pertinent method of test procedures that are used for type approval of the station model which are essential for the compatible operation of that station in the INMARSAT space segment must be disclosed by the manufacturer upon request of the FCC. Witnessing of the type approval tests and the disclosure of the ship earth station equipment design or any other information of a proprietary nature will be at the discretion of the ship earth station manufacturer.

Note 1 to paragraph (g): The verification procedure has been replaced by Supplier's Declaration of Conformity. Equipment previously authorized under subpart J of part 2 of this chapter may remain in use. See § 2.950 of this chapter.

* * * * *

(l) Ship station transmitters may be certified for emissions not shown in § 80.205. However, such emissions are not authorized for use in the United States or for communications with U.S. coast stations.

(m) * * *

(2) A transmitter and any internal device capable of transmitting a synthesized voice message must be certified as an integral unit.

* * * * *

69. Amend § 80.1103 by revising paragraphs (a) and (c) to read as follows:

§ 80.1103 Equipment authorization.

(a) All equipment specified in § 80.1101 must be certified in accordance with subpart J of part 2 of this chapter specifically for GMDSS use, except for equipment used in the INMARSAT space segment which must be type-approved by INMARSAT and are subject to Supplier's Declaration of Conformity pursuant to the procedures in subpart J of part 2 of this chapter specifically for GMDSS use. The technical parameters of the equipment must conform to the performance standards as specified in § 80.1101. For emergency position-indicating radiobeacons operating on 406.0-406.1 MHz (406.0-406.1 MHz EPIRBs) that were authorized prior to April 15, 1992, and meet the requirements of § 80.1101, the manufacturer may attest by letter that the equipment (indicate FCC ID#) meets the requirements of § 80.1101 and request that it be denoted as approved for GMDSS use.

* * * * *

(c) Applicants using Supplier's Declaration of Conformity must attest that the equipment complies with performance standards as specified in § 80.1101 and, where applicable, that measurements have been made that demonstrate the necessary compliance. Submission of representative data demonstrating compliance is not required unless requested by the Commission. An application must include the items listed in §§ 2.931 and 2.938 of this chapter and a copy of the type-approval certification indicating that equipment meets GMDSS standards and includes all peripheral equipment associated with the specific unit under review.

Note 1 to paragraph (c): The verification procedure has been replaced by Supplier's Declaration of Conformity. Equipment previously authorized under subpart J of part 2 of this chapter may remain in use. See § 2.950 of this chapter.

* * * * *

PART 87—AVIATION SERVICES

70. The authority citation for part 87 continues to read as follows:

Authority: 47 U.S.C. 154, 303 and 307(e), unless otherwise noted.

71. Amend § 87.147 by revising paragraph (e) to read as follows:

§ 87.147 Authorization of equipment.

* * * * *

(e) Supplier's Declaration of Conformity for ELTs capable of operating on the frequency 406.0-406.1 MHz must include sufficient documentation to show that the ELT meets the requirements of § 87.199(a). A letter notifying the FAA of the ELT Supplier's Declaration of Conformity must be mailed to: FAA, Office of Spectrum Policy and Management, ASR-1, 800 Independence Avenue SW., Washington, DC 20591.

Note 1 to paragraph (e): The verification procedure has been replaced by Supplier's Declaration of Conformity. Equipment previously authorized under subpart J of part 2 of this chapter may remain in use. See § 2.950 of this chapter.

* * * * *

72. Amend § 87.199 by revising paragraphs (c) and (d) to read as follows:

§ 87.199 Special requirements for 406.0-406.1 MHz ELTs.

* * * * *

(c) As part of its Supplier's Declaration of Conformity a 406.0-406.1 MHz ELT, the ELT must be certified by a test facility recognized by one of the COSPAS/SARSAT Partners that the equipment satisfies the design characteristics associated with the COSPAS/SARSAT document COSPAS/SARSAT 406 MHz Distress Beacon Type Approval Standard (C/S T.007). Additionally, an independent test facility must certify that the ELT complies with the electrical and environmental standards associated with the RTCA Recommended Standards.

Note 1 to paragraph (c): The verification procedure has been replaced by Supplier's Declaration of Conformity. Equipment previously authorized under subpart J of part 2 of this chapter may remain in use. See § 2.950 of this chapter.

(d) The procedures for Supplier's Declaration of Conformity are contained in subpart J of part 2 of this chapter.

* * * * *

PART 90—PRIVATE LAND MOBILE SERVICES

73. The authority citation for part 90 continues to read as follows:

Authority: Sections 4(i), 11, 303(g), 303(r), and 332(c)(7) of the Communications Act of 1934, as amended, 47 U.S.C. 154(i), 161, 303(g), 303(r), and 332(c)(7), and Title VI of the Middle Class Tax Relief and Job Creation Act of 2012, Pub. L. 112-96, 126 Stat. 156.

74. Amend § 90.203 by:

a. Revising the introductory text of paragraph (a), and paragraphs (e) and (g)(2);

b. Removing the phrase “of the rules” from paragraph (i);

c. Removing the phrase “the Rules of” from paragraph (j)(6)(ii); and

d. Revising paragraphs (j)(7) and (l).

The revisions read as follows:

§ 90.203 Certification required.

(a) Except as specified in paragraphs (b) and (l) of this section, each transmitter utilized for operation under this part and each transmitter marketed as set forth in § 2.803 of this chapter must be of a type which has been certified for use under this part.

* * * * *

(e) Except as provided in paragraph (g) of this section, transmitters designed to operate above 25 MHz shall not be certified for use under this part if the operator can program and transmit on frequencies, other than those programmed by the manufacturer, service or maintenance personnel, using the equipment's external operation controls.

* * * * *

(g) * * *

(2) Requires the transmitter to be programmed for frequencies through controls normally inaccessible to the operator; or

* * * * *

(j) * * *

(7) Transmitters designed only for one-way paging operations may be certified with up to a 25 kHz bandwidth and are exempt from the spectrum efficiency requirements of paragraphs (j)(3) and (j)(5) of this section.

* * * * *

(l) Ocean buoy and wildlife tracking transmitters operating in the band 40.66-40.70 MHz or 216-220 MHz under the provisions of § 90.248 shall be authorized under Supplier's Declaration of Conformity pursuant to subpart J of part 2 of this chapter.

Note 1 to paragraph (l): The verification procedure has been replaced by Supplier's Declaration of Conformity. Equipment previously authorized under subpart J of part 2 of this chapter may remain in use. See § 2.950 of this chapter.

* * * * *

PART 101—FIXED MICROWAVE SERVICES

75. The authority citation for part 101 continues to read as follows:

Authority: 47 U.S.C. 154, 303.

76. Amend § 101.139 by revising paragraphs (a), (b), (d), (e), and (g)(1) to read as follows:

§ 101.139 Authorization of transmitters.

(a) Unless specified otherwise, transmitters used in the private operational fixed and common carrier fixed point-to-point microwave and point-to-multipoint services under this part must be a type that has been approved for compliance under Supplier's Declaration of Conformity.

Note 1 to paragraph (a): The verification procedure has been replaced by Supplier's Declaration of Conformity. Equipment previously authorized under subpart J of part 2 of this chapter may remain in use. See § 2.950 of this chapter.

(b) Any transmitter to be produced for use under the rules of this part may be approved under the equipment authorization procedures set forth in part 2 of this chapter.

* * * * *

(d) A transmitter presently shown on an instrument of authorization, which operates on an assigned frequency in the 890-940 MHz band and has not received a grant of certification, may continue to be used by the licensee without certification provided such transmitter continues otherwise to comply with the applicable requirements of this chapter.

(e) Certification or Supplier's Declaration of Conformity is not required for portable transmitters operating with peak output power not greater than 250 mW. If operation of such equipment causes harmful interference the FCC may, at its discretion, require the licensee to take such corrective action as is necessary to eliminate the interference.

* * * * *

(g) * * *

(1) The 0.001% frequency tolerance requirement for digital systems in § 101.107(a) or the 0.03-0.003% frequency tolerance for analog systems; and

* * * * *

[FR Doc. 2017-23217 Filed 11-1-17; 8:45 am]

BILLING CODE 6712-01-P